ENVIRONMENTAL PROTECTION AGENCY

[EPA-New England Region I—EPA-R01-OW-2010-0316; FRL-9147-1]

Massachusetts Marine Sanitation Device Standard—Receipt of Petition

AGENCY: Environmental Protection Agency (EPA).

ACTION: Notice—Receipt of Petition.

SUMMARY: Notice is hereby given that a petition has been received from the Commonwealth of Massachusetts requesting a determination by the Regional Administrator, U.S. Environmental Protection Agency, that adequate facilities for the safe and sanitary removal and treatment of sewage from all vessels are reasonably available for the waters of Pleasant Bay/Chatham Harbor, MA.

DATES: Comments must be submitted by June 7, 2010.

ADDRESSES: Submit your comments, identified by Docket ID No. EPA-R01-OW-2010-0316, by one of the following methods: http://www.regulations.gov, Follow the on-line instructions for submitting comments.

• E-mail: rodney.ann@epa.gov.

• Fax: (617) 918-0538.

Mail and hand delivery: U.S. Environmental Protection Agency—New England Region, Five Post Office Square, Suite 100, OEP06-1, Boston, MA 02109-3912. Deliveries are only accepted during the Regional Office's normal hours of operation (8 a.m.-5 p.m., Monday through Friday, excluding legal holidays), and special arrangements should be made for deliveries of boxed information.

Instructions: Direct your comments to Docket ID No. EPA-R01-OW-2010-0316. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copy-righted material, will be publicly available only in hard copy. Publicly available docket materials are available either electronically in http://www.regulations.gov or in hard copy at the U.S. Environmental Protection Agency—New England Region, Five Post Office Square, Suite 100, OEP06-01, Boston, MA 02109-3912. Such deliveries are only accepted during the Regional Office's normal hours of operation, and special arrangements should be made for deliveries of boxed information. The Regional Office is open from 8 a.m.-5 p.m., Monday through Friday, excluding legal holidays. The telephone number is (617) 918-1538.

FOR FURTHER INFORMATION CONTACT: Ann Rodney, U.S. Environmental Protection Agency—New England Region, Five Post Office Square, Suite 100, OEP06-01, Boston, MA 02109-3912. Telephone: (617) 918-1538, Fax number: (617) 918-0538; e-mail address: rodney.ann@epa.gov.

SUPPLEMENTARY INFORMATION: Notice is hereby given that a petition has been received from the Commonwealth of Massachusetts requesting a determination by the Regional Administrator, U.S. Environmental Protection Agency, pursuant to Section 312(f)(3) of Public Law 92-500 as amended by Public Law 95-217 and Public Law 100-4, that adequate facilities for the safe and sanitary removal and treatment of sewage from all vessels are reasonably available for Pleasant Bay/Chatham Harbor, MA.

The proposed boundary of the Pleasant Bay/Chatham Harbor NDA includes all of the 17 sub-embayments within the area with the following water boundaries:

Waterbody/general area | From latitude | From longitude | To latitude | To longitude
Bounded on the west by mainland Chatham, Harwich, Brewster and Orleans; bounded on the east by Nauset Beach (North Beach) and North Beach Island. A line drawn cross the mouth of the North inlet across from Minister's Point: | 41°42′19.43″ N | 69°55′44.76″ W | 41°42′13.31″ N | 69°55′45.11″ W
From West of a line across the mouth of the South Inlet: | 41°40′41.51″ N | 69°56′3.47″ W | 41°39′56.52″ N | 69°56′30.48″ W

The boundaries were chosen based on easy line-of-sight locations and generally represent all navigational waters. The area includes the municipal waters of Chatham, Harwich, Brewster and Orleans.

Boating is one of the most popular recreational uses of Pleasant Bay/Chatham Harbor. There are three private marinas, four boating clubs and approximately 30 public landings/access points in the proposed area. Massachusetts has certified that there are three pumpout facilities within the proposed area available to the boating public. A list of the facilities, locations, contact information, hours of operation, and water depth is provided at the end of this petition.

Massachusetts has provided documentation indicating that the total vessel population is estimated to be 2,160 in the proposed area. It is estimated that 124 of the total vessel population may have a Marine Sanitation Device (MSD) of some type. Over 90 percent of the boats in the proposed area are 25 feet and under.

The proposed area is roughly 9,000 acres and is a state designated Area of Critical Environment Concern (ACEC). The islands of Pochet, Sampson, Hog, and Little Sipson are held in trust and subject to conservation restrictions and Strong Island is owned by the town of Chatham and the Chatham Conservation Foundation. Tern Island is owned by the Massachusetts Audubon Society. The Nauset Barrier Beach is within the boundaries of the Cape Cod National Seashore. There are 36 finfish species and an abundance of quahogs, softshell clams, razor clams and scallops. This area is a popular destination for boaters due to its natural environmental diversity and would benefit from a No Discharge Area.

Pumpout Facilities Within Proposed No Discharge Area
PLEASANT BAY/CHATHAM HARBOR: Name | PLEASANT BAY/CHATHAM HARBOR: Location | PLEASANT BAY/CHATHAM HARBOR: Contact info. | PLEASANT BAY/CHATHAM HARBOR: Hours | PLEASANT BAY/CHATHAM HARBOR: Mean low water depth
Harbormaster | Round Cove Harwich | 508-430-7532 VHF 60 | On demand | N/A
Harbormaster | Ryder's Cove Chatham | 508-945-1067 or 508-945-5185 VHF 66 | M-F 8 am-5 pm, Sat. 9 am-1 pm | 3 ft
Nauset Marine East | 37 Barley Neck Road, East Orleans | 508-255-3045 VHF 9 | On demand | 3 ft

Dated: April 27, 2010.
H. Curtis Spalding,
Regional Administrator, New England Region.

[FR Doc. 2010-10841 Filed 5-6-10; 8:45 am]

BILLING CODE 6560-50-P